NUCLEAR REGULATORY COMMISSION

Advisory Committee on the Medical Uses of Isotopes: Call for Nominations

AGENCY: U.S. Nuclear Regulatory Commission.

ACTION: Call for nominations.

SUMMARY: The U.S. Nuclear Regulatory Commission (NRC) is soliciting nominations for the position of Radiation Safety Officer on the Advisory Committee on the Medical Uses of Isotopes (ACMUI). Nominees should currently be functioning as a Radiation Safety Officer.

DATES: Nominations are due on or before October 4, 2021.

FOR FURTHER INFORMATION CONTACT: Ms. Kellee Jamerson, U.S. Nuclear Regulatory Commission, Office of Nuclear Material Safety and Safeguards; (301) 415-7408; Kellee.Jamerson@nrc.gov.

SUPPLEMENTARY INFORMATION: Nomination Process: Submit an electronic copy of resume or curriculum vitae, along with a cover letter, to Ms. Kellee Jamerson, Kellee.Jamerson@nrc.gov. The cover letter should describe the nominee's current involvement as a Radiation Safety Officer and express the nominee's interest in the position. Please ensure that the resume or curriculum vitae includes the following information, if applicable: Education; certification(s); professional association and committee membership activities; duties and responsibilities in current and previous clinical, research, and/or academic position(s).

ACMUI members possess the medical and technical skills needed to address evolving issues. The current membership is comprised of the following professionals: (a) Nuclear medicine physician; (b) Nuclear cardiologist; (c) two radiation oncologists; (d) diagnostic radiologist; (e) therapy medical physicist; (f) nuclear medicine physicist; (g) nuclear pharmacist; (h) health care administrator; (i) radiation safety officer; (j) patients' rights advocate; (k) Food and Drug Administration representative; and (l) Agreement State representative. For additional information about membership on the ACMUI, visit the ACMUI Membership web page, http://www.nrc.gov/about-nrc/regulatory/advisory/acmui/membership.html.

The ACMUI Radiation Safety Officer provides advice to NRC staff on health physics issues associated with medical applications of byproduct material. This advice includes providing input on NRC proposed rules and guidance documents; providing recommendations on the training and experience of radiation safety officers; identification of medical events; evaluating non-routine uses of byproduct material; bringing key issues in the radiation safety officer community to the attention of NRC staff; evaluating the security of byproduct material used in medical and research facilities, and other issues as they relate to radiation safety and NRC medical-use policy. This individual is appointed based on their educational background, certification(s), work experience, involvement and/or leadership in professional society activities, and other information obtained in recommendation letters or during the selection process. Nominees should have the demonstrated ability to establish effective work relationships with peers and implement successful approaches to problem solving and conflict resolution.

The ACMUI advises the NRC on policy and technical issues that arise in the regulation of the medical use of byproduct material. Responsibilities of an ACMUI member include providing comments on changes to the NRC regulations and guidance; evaluating certain non-routine uses of byproduct material; providing technical assistance in licensing, inspection, and enforcement cases; and bringing key issues to the attention of the NRC staff, for appropriate action. Committee members currently serve a four-year term and may be considered for reappointment to an additional term.

Nominees must be U.S. citizens and be able to devote approximately 160 hours per year to ACMUI business. Members are expected to attend semi-annual meetings at NRC headquarters in Rockville, Maryland and to participate in teleconferences or virtual meetings, as needed. Members who are not Federal employees are compensated for their service. In addition, members are reimbursed for travel (including per diem in lieu of subsistence) and are reimbursed secretarial and correspondence expenses. Full-time Federal employees are reimbursed for travel expenses only.

Security Background Check: The selected nominee will undergo a thorough security background check. Security paperwork may take the nominee several weeks to complete. Nominees will also be required to complete a financial disclosure statement to avoid conflicts of interest.

Dated at Rockville, Maryland this 2nd day of August 2021.
For the U.S. Nuclear Regulatory Commission.
Russell E. Chazell,
Federal Advisory Committee Management Officer.

[FR Doc. 2021-16706 Filed 8-4-21; 8:45 am]

BILLING CODE 7590-01-P